DEPARTMENT OF ENERGY

Notice of Program Interest for Processing U-232 To Produce RA-224/BI-212 Generators for Uses in Medicine

AGENCY: Department of Energy (DOE).

ACTION: Notice of Program Interest.

SUMMARY: The U.S. Department of Energy (DOE) announces an unrestricted grant program providing support for the production of Ra-224/Bi-212 generators from DOE provided U-232. The Department's objectives of this effort are to: (1) Develop an assured future supply of Bi-212; (2) Maximize private involvement and minimize the cost of producing Ra-224/Bi-212 generators: and (3) minimize future Government involvement. The Department wishes to encourage the private sector to be involved in the production of these generators by providing resources in a cooperative partnering arrangement for the required production. The Department's contribution will be no more than $50,000 for a period of two years.

DATES: Opening date: January 30, 2002, and closing date: February 28, 2002.

ADDRESSES: Complete details, instructions on how to apply, opening and closing dates and the forms may be obtained from the DOE NE home page on the Internet at: http://www.ne.doe.gov. In accordance with 10 CFR 600.9, the formal solicitation document will be disseminated electronically as solicitation number DE-PS01-02NE23296 through the Department's Industry Interactive Procurement System (IIPS) home page located at https://doe-iips.pr.doe.gov.

FOR FURTHER INFORMATION CONTACT: John McClure, Program Manager, at 301-903-5460, Phyllis Morgan, Contract Specialist at 202-287-1504, and Paul Gervas, Attorney and Advisor at 202-586-6918.

SUPPLEMENTARY INFORMATION: The Department will conduct marketing and sales activities of the isotope. Alternatively, concomitant proposals for the marketing and sales function will be allowed. The Department wishes to encourage the private sector to be involved in the production of these generators by providing resources in a cooperative partnering arrangement for the required production.

Effective October 1, 1999, the IIPS system became the primary way for the Office of Headquarters Procurement Services to conduct competitive acquisitions and financial assistance transactions. IIPS provides the medium for disseminating solicitations, receiving financial assistance applications and proposals, evaluating, and awarding various instruments in a paperless environment. All documents included in your applications should be submitted in the Microsoft Word format. To get more information about IIPS and to register your organization, go to https://doe-iips.pr.doe.gov. Follow the link on the IIPS home page to the Secure Services Page. Registration is a prerequisite to the submission of an application, and applicants are encouraged to register as soon as possible. When registering, all applicants should use the same North American Industry Classifications System number: 325412. A help document, which describes how IIPS works, can be found at the bottom of the Secure Services Page.

Kevin Smith,
Program Services Division, Office of Headquarters Procurement Services.

[FR Doc. 02-1470 Filed 1-18-02; 8:45 am]

BILLING CODE 6450-01-P